ENVIRONMENTAL PROTECTION AGENCY

[FRL-8568-4]

Availability of FY 07 Grantee Performance Evaluation Reports for the Eight States of EPA Region 4 and 15 Local Agencies

AGENCY: Environmental Protection Agency (EPA).

ACTION: Notice of availability of Clean Air Act, section 105 grantee performance evaluation reports.

SUMMARY: EPA's grant regulations (40 CFR 35.115) require the Agency to evaluate the performance of agencies which receive grants. EPA's regulations for regional consistency (40 CFR 56.7) require that the Agency notify the public of the availability of the reports of such evaluations. EPA performed end-of-year evaluations of eight state air pollution control programs (Alabama Department of Environmental Management; Florida Department of Environmental Protection; Georgia Department of Natural Resources; Commonwealth of Kentucky Department for Environmental Protection; Mississippi Department of Environmental Quality; North Carolina Department of Environment and Natural Resources; South Carolina Department of Health and Environmental Control; and Tennessee Department of Environment and Conservation) and 15 local programs (City of Huntsville Division of Natural Resources, AL; Jefferson County Department of Health, AL; Broward County Environmental Protection Department, FL; City of Jacksonville Environmental Quality Division, FL; Hillsborough County Environmental Protection Commission, FL; Miami-Dade County Air Quality Management Division, FL; Palm Beach County Health Department, FL; Pinellas County Department of Environmental Management, FL; Forsyth County Environmental Affairs Department, NC; Mecklenburg County Land Use and Environmental Services Agency, NC; Western North Carolina Regional Air Quality Agency, NC; Chattanooga-Hamilton County Air Pollution Control Bureau, TN; Memphis-Shelby County Health Department, TN; Knox County Department of Air Quality Management, TN; and Metropolitan Government of Nashville and Davidson County Public Health Department, TN). The 23 evaluations were conducted to assess the agencies' FY 07 performance under the grants awarded by EPA under authority of section 105 of the Clean Air Act. EPA Region 4 has prepared reports for each agency identified above and these reports are now available for public inspection. The evaluation for the remaining local government of Louisville Metro Air Pollution Control District will be published at a later date.

ADDRESSES: The reports may be examined at the EPA's Region 4 office, 61 Forsyth Street, SW., Atlanta, Georgia 30303, in the Air, Pesticides and Toxics Management Division. The Regional Office's official hours of business are Monday through Friday, 8:30 to 4:30, excluding federal holidays.

FOR FURTHER INFORMATION CONTACT: Marie Persinger (404) 562-9048 for information concerning the state and local agencies of Alabama and Kentucky; Miya Smith (404) 562-9091 for the state and local agencies of Florida; Sean Flynn (404) 562-9093 for the state agency of Mississippi; Mary Echols (404) 562-9053 for the state agency of Georgia, and for the state and local agencies of North Carolina; and Marilyn Sabadaszka (404) 562-9001 for the state agency of South Carolina and for the state and local agencies of Tennessee. They may be contacted at the above Region 4 address.

Dated: May 12, 2008.
Russell L. Wright, Jr.,
Acting Regional Deputy Administrator, Region 4.

[FR Doc. E8-11382 Filed 5-20-08; 8:45 am]

BILLING CODE 6560-50-P